DEPARTMENT OF LABOR

Office of the Secretary

Submission for OMB Review: Comment Request

October 6, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: New collection (Request for new OMB Control Number).

Title of Collection: Access Points Evaluation.

OMB Control Number: 1205-XXXX.

Agency Form Numbers: ETA-9150; ETA-9151; and ETA-9152.

Affected Public: Private Sector and State, Local and Tribal Governments.

Total Estimated Number of Respondents: 458.

Total Estimated Annual Burden Hours: 98.

Total Estimated Annual Costs Burden (does not include hour costs): $0.

Description: Access Points are employment information centers and satellites to One-Stop career centers that are operated with donated labor and facilities by Community and Faith-Based Organizations. The Department of Labor's funded SHARE Network Coordinators train and support Access Points. The Access Points evaluation will assess the merits of three training and technical assistance delivery types to ensure that DOL's replication of the Access Points model uses the most cost-effective technical assistance approach. The evaluation is designed to survey SHARE Network Coordinators, Access Point Points of Contact, and One-Stop Directors. For additional information, see related notice published at Volume 74 FR 32648 on July 8, 2009.

Darrin A. King,
Departmental Clearance Officer.

[FR Doc. E9-24573 Filed 10-13-09; 8:45 am]

BILLING CODE 4510-30-P